Executive Order 13346 of July 8, 2004

Delegation of Certain Waiver, Determination, Certification, Recommendation, and Reporting Functions

By the authority vested in me as President by the Constitution and the laws of the United States of America, including section 301 of title 3, United States Code, it is hereby ordered as follows:

Section 1. The functions of the President in making certain waivers, determinations, certifications, recommendations, and reports to the Congress are assigned as follows:

(a) The Secretary of State is authorized to make waivers, determinations, certifications, and recommendations, and to undertake related reporting, as described in:

(i) Section 402(d)(1) of the Trade Act of 1974, as amended (19 U.S.C. 2432(d)(1)), with respect to the extension of Jackson-Vanik waivers;

(ii) Section 609 of Division A of the Omnibus Consolidated and Emergency Supplemental Appropriations Act, 1999 (Public Law 105-277) as continued in effect by section 612 of Division B of the Consolidated Appropriations Act, 2004 (Public Law 108-199) with respect to cooperation related to persons missing in action and prisoners of war; and

(iii) Section 102(a)(2) of the Arms Export Control Act, as amended (22 U.S.C. 2799aa-1(a)), with respect to any Presidential determination under section 102(a)(1) that is also the subject of a determination and certification by the President pursuant to section 102(a)(2).

(b) The United States Trade Representative shall submit the report relating to sub-Saharan Africa under section 106 of the African Growth and Opportunity Act (Public Law 106-200, title 1).

Sec. 2. The functions of the President in making certifications to the Congress consistent with the resolution of advice and consent to ratification of the Chemical Weapons Convention adopted by the Senate on April 24, 1997 (Resolution) are assigned as follows:

(a) The Secretary of State is authorized to make a certification consistent with section 2(7)(C)(i) of the Resolution with respect to the effectiveness and viability of the Australia Group.

(b) The Secretary of Commerce is authorized to make a certification consistent with section 2(9) of the Resolution with respect to the interests of certain firms in the United States.

Sec. 3. Executive Order 12163 of September 29, 1979, as amended, is further amended, in section 1-100(a), by striking the period at the end of paragraph (12) and inserting a semicolon, and by inserting the following new paragraphs:

“(13) title II of the Foreign Operations, Export Financing, and Related Programs Appropriations Act, 2002 (Public Law 107-115), under the heading “Assistance for the Independent States of the Former Soviet Union,” in subsections (g)(4) and (6);”;

“(14) section 512 of Division D of the Consolidated Appropriations Act, 2004 (Public Law 108-199);”;

“(15) sections 5(c) and 6 of the Anglo-Irish Agreement Support Act of 1986 (Public Law 99-415), as amended.”.

Sec. 4. Executive Order 13277 of November 19, 2002, is amended in section 1(b)(3) by adding after the phrase “Section 2105(a)(1)” the terms “(A) and (C)”.

Sec. 5. References in this order to provisions of any Act shall be deemed to include references to any provision of law that is the same or substantially the same as such provisions.

Sec. 6. In carrying out sections 1 and 2 of this order, officers of the United States shall ensure that all actions taken by them are consistent with the President's constitutional authority to: (a) conduct the foreign affairs of the United States; (b) withhold information the disclosure of which could impair the foreign relations, the national security, the deliberative processes of the Executive, or the performance of the Executive's constitutional duties; (c) recommend for congressional consideration such measures as the President may judge necessary and expedient; and (d) supervise the unitary executive branch.

Sec. 7. Nothing in this order shall be construed to impair or otherwise affect the functions of the Director of the Office of Management and Budget relating to budget, administrative, or legislative proposals.

Sec. 8. This order is intended only to improve the internal management of the executive branch and is not intended to, and does not, create any right or benefit, substantive or procedural, enforceable at law or in equity by a party against the United States, its departments, agencies, entities, officers, employees or agents, or any other person.

B

THE WHITE HOUSE,

July 8, 2004.

[FR Doc. 04-15934

Filed 7-12-04; 8:45 am]

Billing code 3195-01-P